DEPARTMENT OF HOMELAND SECURITY

Coast Guard

33 CFR Part 117

[USCG-2009-0054]

RIN 1625-AA09

Drawbridge Operation Regulation; Tennessee River, Decatur, AL

AGENCY: Coast Guard, DHS.

ACTION: Notice of temporary deviation from regulations.

SUMMARY: The Commander, Eighth Coast Guard District, has issued a temporary deviation from the regulation governing the operations of the Southern Railroad Drawbridge across the Tennessee River, mile 304.4, at Decatur, Alabama. The deviation is necessary to allow time for conducting needed maintenance and repairs to the bridge. This deviation allows the bridge to remain in the closed to navigation position and not open to vessel traffic.

DATES: This deviation is effective from 8 a.m. to 8 p.m. on February 20, 2009 and from 8 a.m. to 8 p.m. on February 24, 2009.

ADDRESSES: Documents indicated in this preamble as being available in the docket are part of docket USCG-2009-0054 and are available online at www.regulations.gov. They are also available for inspections or copying at two locations: the Docket Management Facility (M-30), U.S. Department of Transportation, West Building Ground Floor, Room W12-140, 1200 New Jersey Avenue, SE., Washington, DC 20590, between 9 a.m. and 5 p.m., Monday through Friday, except Federal holidays, and the Robert A. Young Federal Building, Room 2.107f, 1222 Spruce Street, St. Louis, MO 63103-2832, between 8 a.m. and 4 p.m., Monday through Friday, except Federal holidays

FOR FUTHER INFORMATION CONTACT: Roger K. Wiebusch, Bridge Administrator, (314) 269-2378.

SUPPLEMENTARY INFORMATION: The Norfolk Southern Railway requested a temporary deviation for the Southern Railroad Drawbridge, across the Tennessee River, Mile 304.4, at Decatur, Alabama to remain in the closed to navigation position for two 12 hour periods in order to facilitate critical bridge maintenance. The Southern Railroad Drawbridge currently operates in accordance with 33 CFR 117.5, which states the general requirement that drawbridges shall open promptly and fully for the passage of vessels when a request to open is given in accordance with the subpart. In order to facilitate the needed bridge work, the drawbridge must be kept in the closed-to-navigation position for two 12 hour periods. This deviation allows the bridge to remain in the closed to navigation position and not open for vessel traffic from 8 a.m. to 8 p.m. on February 20, 2009 and 8 a.m. to 8 p.m. on February 24, 2009.

Navigation on the waterway consists primarily of commercial tows and recreational watercraft and will not be significantly impacted.

The Southern Railroad Drawbridge navigation span has a vertical clearance of 10.52 feet above normal pool in the closed to navigation position. Performing necessary maintenance on the bridge is required to ensure the continued reliability of the lift span. This temporary change to the drawbridge's operation has been coordinated with the commercial waterway operators.

There are no alternate routes for vessels transiting this section of the Tennessee River.

This temporary deviation has been coordinated with waterway users. No objections were received.

Dated: February 4, 2009.
Roger K. Wiebusch,
Bridge Administrator, Eighth Coast Guard District (dwb).

[FR Doc. E9-3571 Filed 2-19-09; 8:45 am]

BILLING CODE 4910-15-P